DEPARTMENT OF AGRICULTURE

Forest Service

Hood/Willamette Resource Advisory Committee (RAC)

AGENCY: Forest Service, USDA.

ACTION: Meeting.

SUMMARY: The Hood/Willamette Resource Advisory Committee (RCA) will meet on Thursday, April 4, 2002. The meeting is scheduled to begin at 9 a.m. and will conclude at approximately 4 p.m. The meeting will be held at the South Salem Phoenix Inn; 4370 Commercial St. SE; Salem, Oregon; (503) 588-9220. The tentative agenda includes: (1) Complete review and Recommendation of Projects; (2) Process for Making Recommendations on 2003 Projects; (3) Public Forum.

The Public Forum is tentatively scheduled to begin at 1 p.m. Time allotted for individual presentations will be limited to 3-4 minutes. Written comments are encouraged, particularly if the material cannot be presented within the time limits for the Public Forum. Written comments may be submitted prior to the April 4 meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: March 4, 2002.
Y. Robert Iwamoto,
Acting Forest Supervisor.

[FR Doc. 02-5926 Filed 3-12-02; 8:45 am]

BILLING CODE 3410-11-M